ENVIRONMENTAL PROTECTION AGENCY

[EPA-HQ-OPP-2010-0282; FRL-8832-4]

Pesticides; Draft Guidance for Pesticide Registrants on False or Misleading Pesticide Product Brand Names; Extension of Comment Period

AGENCY: Environmental Protection Agency (EPA).

ACTION: Notice; extension of comment period.

SUMMARY: EPA issued a notice in the Federal Register of May 19, 2010, announcing the availability of and seeking public comment on a draft Pesticide Registration Notice (PR Notice) entitled “False or Misleading Pesticide Product Brand Names.” This document extends the comment period for 60 days, from June 18, 2010, to August 17, 2010.

DATES: Comments, identified by docket identification (ID) number EPA-HQ-OPP-2010-0282, must be received on or before August 17, 2010.

ADDRESSES: Follow the detailed instructions as provided under ADDRESSES in the Federal Register document of May 19, 2010.

FOR FURTHER INFORMATION CONTACT: Jeff Kempter, Antimicrobials Division (7510P), Office of Pesticide Programs, Environmental Protection Agency, 1200 Pennsylvania Ave., NW., Washington, DC 20460-0001; telephone number: (703) 305-5448; fax number: (703) 308-6467; e-mail address: kempter.carlton@epa.gov.

SUPPLEMENTARY INFORMATION: This document extends the public comment period established in the Federal Register of May 19, 2010 (75 FR 28012) (FRL-8824-8). In that document, the Agency announced the availability of and sought public comment on a draft Pesticide Registration Notice (PR Notice) entitled “False or Misleading Pesticide Product Brand Names.” EPA is hereby extending the comment period, which was set to end on June 18, 2010, to August 17, 2010.

To submit comments, or access the docket, please follow the detailed instructions as provided under ADDRESSES in the May 19, 2010 Federal Register document. If you have questions, consult the person listed under FOR FURTHER INFORMATION CONTACT.

List of Subjects

Environmental protection, Administrative practice and procedure, Agricultural commodities, Pesticides and pests.

Dated: June 11, 2010.
Steven Bradbury,
Director, Office of Pesticide Programs
.

[FR Doc. 2010-14656 Filed 6-16-10; 8:45 am]

BILLING CODE 6560-50-S